DEPARTMENT OF HOMELAND SECURITY

Coast Guard

[USCG-2005-21723]

Environmental Equivalency Evaluation Index: Methodology To Assess the Oil Outflow Performance of Alternative Designs to the Double Hull Oil Tanker

AGENCY: Coast Guard, DHS.

ACTION: Notice of availability.

SUMMARY: The Coast Guard announces the availability of an Environmental Equivalency Evaluation Index, which establishes a methodology to assess the oil outflow performance of alternative designs to the double hull oil tanker. This Environmental Equivalency Evaluation Index has been established in accordance with Section 705 of the Coast Guard and Maritime Transportation Act of 2004.

ADDRESSES: Documents mentioned in this notice as being available in the docket are part of public docket USCG-2005-21723, and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: For information concerning this notice, contact James Person, Coast Guard Office of Design and Engineering Standards, by telephone at 202-267-2988 or via e-mail at jperson@comdt.uscg.mil. If you have questions on viewing material in the docket, call Andrea M. Jenkins, Program Manager, Docket Operations, by telephone at 202-366-0271.

SUPPLEMENTARY INFORMATION:

Background

Section 705 of the Coast Guard and Maritime Transportation Act of 2004 amended Section 4115(e)(3) of the Oil Pollution Act of 1990 (46 U.S.C. 3703a note) to read as follows: “(3) No later than one year after the date of enactment of the Coast Guard and Maritime Transportation Act of 2004, the Secretary shall, taking into account the recommendations contained in the report by the Marine Board of the National Research Council entitled ‘Environmental Performance of Tanker Design in Collision and Grounding’ and dated 2001, establish and publish an environmental equivalency evaluation index (including the methodology to develop that index) to assess overall outflow performance due to collisions and groundings for double hull tank vessels and alternative hull designs.”

Environmental Equivalency Evalution Index

In accordance with the authority delegated from the Secretary, the Coast Guard has established the Environmental Equivalency Evaluation Index as directed. It is available on the Internet at http://www.uscg.mil/hq/g-m/mse/mse2-dh-alt-eval-index.pdf, and in the docket. To view documents in the docket, go to http://dms.dot.gov at any time and conduct a simple search using the docket number.

Dated: July 12, 2005.
T.H. Gilmour,
Rear Admiral, U.S. Coast Guard, Assistant Commandant for Marine Safety, Security and Environmental Protection.

[FR Doc. 05-14265 Filed 7-19-05; 8:45 am]

BILLING CODE 4910-15-P